DEPARTMENT OF ENERGY

Federal Energy Regulatory Commission

Combined Notice of Filings #1

October 23, 2018.

Take notice that the Commission received the following exempt wholesale generator filings:

Docket Numbers: EG19-13-000.

Applicants: Gateway Energy Storage, LLC.

Description: Notice of Self-Certification of Exempt Wholesale Generator Status.

Filed Date: 10/23/18.

Accession Number: 20181023-5241.

Comments Due: 5 p.m. ET 11/13/18.

Take notice that the Commission received the following electric rate filings:

Docket Numbers: ER18-2340-001.

Applicants: Midcontinent Independent System Operator, Inc.

Description: Tariff Amendment: 2018-10-23_SA 3153 Crescent Wind-METC GIA (J538) Substitute Original to be effective 8/15/2018.

Filed Date: 10/23/18.

Accession Number: 20181023-5064.

Comments Due: 5 p.m. ET 11/13/18.

Docket Numbers: ER19-156-000.

Applicants: Duke Energy Progress, LLC.

Description: § 205(d) Rate Filing: DEP As-Available Capacity Agreement Concurrence Filing to be effective 12/22/2018.

Filed Date: 10/22/18.

Accession Number: 20181022-5145.

Comments Due: 5 p.m. ET 11/13/18.

Docket Numbers: ER19-157-000.

Applicants: Midcontinent Independent System Operator, Inc.

Description: § 205(d) Rate Filing: 2018-10-22_SA 3181 Glaciers Edge-MidAmerican GIA (J506) to be effective 10/8/2018.

Filed Date: 10/22/18.

Accession Number: 20181022-5147.

Comments Due: 5 p.m. ET 11/13/18.

Docket Numbers: ER19-158-000.

Applicants: Ambit Northeast, LLC.

Description: Baseline eTariff Filing: Ambit Northeast LLC MBR Application to be effective 10/22/2018.

Filed Date: 10/22/18.

Accession Number: 20181022-5198.

Comments Due: 5 p.m. ET 11/13/18.

Docket Numbers: ER19-159-000.

Applicants: Southwestern Electric Power Company.

Description: § 205(d) Rate Filing: ETEC and NTEC PSA to be effective 5/31/2018.

Filed Date: 10/23/18.

Accession Number: 20181023-5087.

Comments Due: 5 p.m. ET 11/13/18.

Docket Numbers: ER19-160-000.

Applicants: PJM Interconnection, L.L.C.

Description: § 205(d) Rate Filing: Clean-up to OATT, Schedule 1A to add language previously accepted by FERC to be effective 1/1/2018.

Filed Date: 10/23/18.

Accession Number: 20181023-5203.

Comments Due: 5 p.m. ET 11/13/18.

Docket Numbers: ER19-161-000.

Applicants: ISO New England Inc., New England Power Pool Participants Committee.

Description: § 205(d) Rate Filing: Revisions to Permit Ex-Post Refund of Cluster Participation Deposits to be effective 12/23/2018.

Filed Date: 10/23/18.

Accession Number: 20181023-5216.

Comments Due: 5 p.m. ET 11/13/18.

Docket Numbers: ER19-162-000.

Applicants: Midcontinent Independent System Operator, Inc., ALLETE, Inc.

Description: § 205(d) Rate Filing: 2018-10-23_SA 3191 MP-GRE T-L IA (Tower Frazer) to be effective 10/24/2018.

Filed Date: 10/23/18.

Accession Number: 20181023-5235.

Comments Due: 5 p.m. ET 11/13/18.

Docket Numbers: ER19-163-000.

Applicants: AEP Texas Inc.

Description: § 205(d) Rate Filing: AEPTX-Cranell Wind Farm Interconnection Agreement to be effective 10/12/2018.

Filed Date: 10/23/18.

Accession Number: 20181023-5254.

Comments Due: 5 p.m. ET 11/13/18.

Docket Numbers: ER19-164-000.

Applicants: Southwest Power Pool, Inc.

Description: § 205(d) Rate Filing: Midwest Energy Depreciation Rates to be effective 1/1/2019.

Filed Date: 10/23/18.

Accession Number: 20181023-5259.

Comments Due: 5 p.m. ET 11/13/18.

Docket Numbers: ER19-165-000.

Applicants: Southwestern Electric Power Company.

Description: § 205(d) Rate Filing: ETEC and NTEC PSA to be effective 5/31/2018.

Filed Date: 10/23/18.

Accession Number: 20181023-5269.

Comments Due: 5 p.m. ET 11/13/18.

Docket Numbers: ER19-166-000.

Applicants: Southwest Power Pool, Inc.

Description: § 205(d) Rate Filing: Tariff Revisions to Accelerate the Process for Frequently Constrained Areas to be effective 12/22/2018.

Filed Date: 10/23/18.

Accession Number: 20181023-5271.

Comments Due: 5 p.m. ET 11/13/18.

Docket Numbers: ER19-167-000.

Applicants: AEP Texas Inc.

Description: § 205(d) Rate Filing: AEPTX-Chapman Ranch Wind I System Upgrade Agreement Cancellation to be effective 10/10/2018.

Filed Date: 10/23/18.

Accession Number: 20181023-5272.

Comments Due: 5 p.m. ET 11/13/18.

Take notice that the Commission received the following electric securities filings:

Docket Numbers: ES19-1-000.

Applicants: Kansas City Power & Light Company, KCP&L Greater Missouri Operations Company, Kansas Gas and Electric Company, Westar Energy, Inc.

Description: Errata to October 3, 2018 Joint Application for Authorization Under FPA Section 204 to Issue Short-Term Debt Securities of Kansas City Power & Light Company, et al.

Filed Date: 10/9/18.

Accession Number: 20181009-5295.

Comments Due: 5 p.m. ET 10/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2018.
Nathaniel J. Davis, Sr.,
Deputy Secretary.

[FR Doc. 2018-23531 Filed 10-26-18; 8:45 am]

BILLING CODE 6717-01-P